DEPARTMENT OF ENERGY

Federal Energy Regulatory Commission

[Docket No. ER00-1609-000]

West Penn Power Company, West Penn Transferring Agent L.L.C. and Allegheny Energy Supply Company, L.L.C., Notice of Filing

February 24, 2000.

Take notice that on February 11, 2000, West Penn Power Company (West Penn), West Penn Trafsferring Agent LLC (Transferring Agent), and Allegheny Energy Supply Company, L.L.C., tendered for filing agreements assigning West Penn's right, title and interest in an Inter-Company Power Agreement among Ohio Valley Electric Corporation, Appalachian Power Company, The Cincinnati Gas & Electric Company, Columbus Southern Power Company, The Dayton Power and Light Company, Indiana Michigan Power Company, Kentucky Utilities Company, Louisville Gas and Electric Company, Monongahela Power Company, Ohio Edison Company, Pennsylvania Power Company, The Potomac Edison Company, Southern Indiana Gas and Electric Company, The Toledo Edison Company, ans West Penn, dated July 10, 1953, as amended from time to time. The Applicants state the Commission previously authorized this assignment in an order dated October 25, 1999. Allegheny Energy Supply Company, 89 FERC ¶ 62,063 (1999).

The Applicants request that the Commission accept the proposed assignment effective on February 12, 2000, one day after filing.

Copies of the filing have been provided to the Public Utilities Commission of Ohio, the Pennsylvania Public Utility Commission, the Maryland Public Service Commission the Virginia State Corporation Commission, the West Virginia Public Service Commission and all parties of record.

Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions and protests should be filed on or before March 3, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-4895 Filed 2-29-00; 8:45 am]

BILLING CODE 6717-01-M